NUCLEAR REGULATORY COMMISSION

10 CFR Part 73

[NRC-2011-0014; NRC-2011-0015; NRC-2011-0017; NRC-2011-0018]

RIN 3150—AI49

Public Meeting To Discuss the Proposed Rule on Enhanced Weapons, Firearms Background Checks, and Security Event Notifications

AGENCY: Nuclear Regulatory Commission.

ACTION: Public meeting.

SUMMARY: The Nuclear Regulatory Commission (NRC) is holding a public meeting on June 1, 2011, to provide an opportunity for the NRC and the public to discuss the proposed enhanced weapons rule, the two draft regulatory guides, and the draft weapons safety assessment documents.

DATES: Wednesday, June 1, 2011, 8:30 a.m. to 5 p.m. (Eastern Daylight Time).

ADDRESSES: Public Meeting: U.S. Nuclear Regulatory Commission, Two White Flint North Building, Room T-2B3, 11545 Rockville Pike, Rockville, Maryland 20852.

FOR FURTHER INFORMATION CONTACT: Robert H. Beall, Office of Nuclear Reactor Regulation, U.S. Nuclear Regulatory Commission, Washington, DC 20555-000; Telephone: 301-415-3874; E-mail: Robert.Beall@nrc.gov.

SUPPLEMENTARY INFORMATION: The main purpose of this meeting is to facilitate external stakeholder understanding of the proposed rule and the supporting documents to enable submission of well-informed comments. Representatives from the NRC, FBI, and ATF will discuss and answer questions on the content of the proposed rule and guidance documents during the meeting.

This meeting is not a forum to negotiate the content of the draft proposed rule or guidance documents. No formal comments on the proposed enhanced weapons rule or the draft guidance documents will be collected, and no requests for an extension of the public comment period will be entertained at this meeting. Comments on the proposed rule and/or guidance documents and requests for extensions of the comment periods should be submitted to the NRC according to the instructions in each of the draft rulemaking and/or guidance documents.

Availability of Documents

The following table indicates the proposed rule and related documents that are available to the public and how they may be obtained.

Document | PDR | Web | NRC Library (ADAMS)
Proposed Rule (76 FR 6200; February 3, 2011) [NRC-2011-0018] | X | X | ML082740160
Draft Regulatory Guide DG-5019 (72 FR 37058, July 6, 2007) [NRC 2011-0014] | X | X | ML100830413
Draft Regulatory Guide DG 5020 (76 FR 6086, February 3, 2011) [NRC 2011-0015] | X | X | ML100321956
Draft Weapons Safety Assessment (76 FR 6087, February 3, 2011) [NRC 2011-0017] | X | X | ML103190273
Agenda for June 1, 2011 Meeting | X | X | ML111300017

You can access publicly available information related to these documents using the following methods:

• NRC's Public Document Room (PDR): The public may examine and have copied, for a fee, publicly available documents at the NRC's PDR, Room O-1F21, One White Flint North, 11555 Rockville Pike, Rockville, Maryland.

• NRC's Agencywide Documents Access and Management System (ADAMS):

Publicly available documents created or received at the NRC are available Online in the NRC Library at http://www.nrc.gov/reading-rm/adams.html. From this page, the public can gain entry into ADAMS, which provides text and image files of NRC's public documents. If you do not have access to ADAMS or if there are problems in accessing the documents located in ADAMS, contact the NRC's PDR reference staff at 1-800-397-4209, or 301-415-4737, or by e-mail to PDR.Resource@nrc.gov.

• Federal Rulemaking Web Site: Public comments and supporting materials related to this proposed rulemaking can be found at http://www.regulations.gov by searching on Docket ID: NRC-2011-0018.

Availability of Services

The NRC provides reasonable accommodations to individuals with disabilities where appropriate. If you need a reasonable accommodation to participate in this meeting (e.g., sign language), or need this meeting notice or other information from the meeting in another format, please notify the NRC meeting contact, Robert H. Beall at 301-415-3874 by May 25, 2011, so arrangements can be made. All expected attendees must register with the NRC meeting contact by close of business on May 25, 2011. The NRC is located across the street from the White Flint Metro Station. Visitor parking near the NRC buildings is limited.

Dated at Rockville, Maryland, this 20th day of May 2011.
For the Nuclear Regulatory Commission.
Shana R. Helton,
Chief, Rulemaking Branch, Division of Policy and Rulemaking, Office of Nuclear Reactor Regulation.

[FR Doc. 2011-12959 Filed 5-24-11; 8:45 am]

BILLING CODE 7590-01-P